DEPARTMENT OF ENERGY

Federal Energy Regulatory Commission

Combined Notice of Filings #1

Take notice that the Commission received the following exempt wholesale generator filings:

Docket Numbers: EG21-164-000.

Applicants: Blythe Mesa Solar II, LLC.

Description: Notice of Self-Certification of Exempt Wholesale Generator Status of Blythe Mesa Solar II, LLC.

Filed Date: 6/2/21.

Accession Number: 20210602-5180.

Comments Due: 5 p.m. ET 6/23/21.

Take notice that the Commission received the following electric rate filings:

Docket Numbers: ER10-2474-023; ER10-2475-023; ER10-2605-015; ER10-2611-023; ER10-2984-051; ER10-3246-017; ER11-2044-037; ER11-3876-026; ER12-162-031; ER12-1626-012; ER13-1266-034; ER13-1267-011; ER13-1268-011; ER13-1269-011; ER13-1270-011; ER13-1271-011; ER13-1272-011; ER13-1273-011; ER13-1441-011; ER13-1442-011; ER13-520-011; ER13-521-011; ER15-2211-031; ER16-1258-004; ER16-438-006; ER18-1419-004.

Applicants: Sierra Pacific Power Company, Nevada Power Company, Yuma Cogeneration Associates, Saranac Power Partners, L.P., Merrill Lynch Commodities, Inc., PacifiCorp, MidAmerican Energy Company, Cordova Energy Company LLC, Bishop Hill Energy II LLC, Topaz Solar Farms LLC, Pinyon Pines Wind I, LLC, Pinyon Pines Wind II, LLC, CalEnergy, LLC, CE Leathers Company, Del Ranch Company, Elmore Company, Fish Lake Power LLC, Salton Sea Power Generation Company, Salton Sea Power L.L.C., Vulcan/BN Geothermal Power Company, Solar Star California XIX, LLC, Solar Star California XX, LLC, MidAmerican Energy Services, LLC, Marshall Wind Energy LLC, Grande Prairie Wind, LLC, Walnut Ridge Wind, LLC.

Description: Notice of Non-Material Change in Status of Sierra Pacific Power Company, et al.

Filed Date: 6/3/21.

Accession Number: 20210603-5169.

Comments Due: 5 p.m. ET 6/24/21.

Docket Numbers: ER10-2738-009; ER11-4267-014; ER20-2586-002 ER20-2587-001; ER20-2669-001.

Applicants: The Empire District Electric Company, North Fork Ridge Wind, LLC, Kings Point Wind, LLC, Neosho Ridge Wind, LLC, Algonquin Energy Services Inc.

Description: Notice of Non-Material Change in Status of The Empire District Electric Company, et al.

Filed Date: 6/4/21.

Accession Number: 20210604-5164.

Comments Due: 5 p.m. ET 6/25/21.

Docket Numbers: ER20-2065-001; ER20-2066 001.

Applicants: Antelope Expansion 3A, LLC, Antelope Expansion 3B, LLC.

Description: Notice of Non-Material Change in Status of Antelope Expansion 3A, LLC, et al.

Filed Date: 6/7/21.

Accession Number: 20210607-5139.

Comments Due: 5 p.m. ET 6/28/21.

Docket Numbers: ER21-383-002.

Applicants: Midcontinent Independent System Operator, Inc., American Transmission Company LLC.

Description: Tariff Amendment: 2021-06-07_SA 3581 Deficiency Response to ATC-Muscoda Substitute CFA to be effective 6/4/2021.

Filed Date: 6/7/21.

Accession Number: 20210607-5100.

Comments Due: 5 p.m. ET 6/28/21.

Docket Numbers: ER21-625-002.

Applicants: New York Independent System Operator, Inc.

Description: Compliance filing: NYISO compliance notice of delayed effective date—SENY reserve enhancements to be effective 6/10/2021.

Filed Date: 6/7/21.

Accession Number: 20210607-5099.

Comments Due: 5 p.m. ET 6/28/21.

Docket Numbers: ER21-2085-000

Applicants: Crawford Solar LLC.

Description: Petition for Limited Waiver of Crawford Solar LLC.

Filed Date: 6/4/21.

Accession Number: 20210604-5188.

Comments Due: 5 p.m. ET 6/25/21.

Docket Numbers: ER21-2086-000.

Applicants: PJM Interconnection, L.L.C.

Description: § 205(d) Rate Filing: Original NSA, SA No. 6068; Queue No. P36 to be effective 5/10/2021.

Filed Date: 6/7/21.

Accession Number: 20210607-5068.

Comments Due: 5 p.m. ET 6/28/21.

Docket Numbers: ER21-2087-000.

Applicants: Southwest Power Pool, Inc.

Description: § 205(d) Rate Filing: The Empire District Electric Company Formula Rate to be effective 5/14/2021.

Filed Date: 6/7/21.

Accession Number: 20210607-5076.

Comments Due: 5 p.m. ET 6/28/21.

Docket Numbers: ER21-2088-000.

Applicants: Alabama Power Company.

Description: § 205(d) Rate Filing: Photosol US Renewable Energy (Bayou Solar) LGIA Filing to be effective 5/21/2021.

Filed Date: 6/7/21.

Accession Number: 20210607-5085.

Comments Due: 5 p.m. ET 6/28/21.

Docket Numbers: ER21-2089-000.

Applicants: Elephant Energy, LLC.

Description: Baseline eTariff Filing: Initial Market Based Rate Tariff Filing—Elephant Energy to be effective 6/7/2021.

Filed Date: 6/7/21.

Accession Number: 20210607-5088.

Comments Due: 5 p.m. ET 6/28/21.

Docket Numbers: ER21-2090-000.

Applicants: Tri-State Generation and Transmission Association, Inc.

Description: § 205(d) Rate Filing: Service Agreement No. 894 to be effective 2/25/2020.

Filed Date: 6/7/21.

Accession Number: 20210607-5101.

Comments Due: 5 p.m. ET 6/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2021.
Debbie-Anne A. Reese,
Deputy Secretary.

[FR Doc. 2021-12296 Filed 6-10-21; 8:45 am]

BILLING CODE 6717-01-P